FEDERAL COMMUNICATIONS COMMISSION

47 CFR Part 25

[IB Docket Nos. 06-160, 18-314, 20-330, 22-273; FCC 19-93, FCC 20-159, FCC 22-63, DA 24-271; FR ID 235519]

Amendments to Rules for Direct Broadcast Satellite, Satellite Services, and 17 GHz; Updates to Forms 312 and 312-R for the International Communications Filing System; Corrections to 17 GHz Report and Order; Correction

AGENCY: Federal Communications Commission.

ACTION: Final rule; announcement of effective date and correcting amendments; correction.

SUMMARY: The Federal Communications Commission published a document in the Federal Register of July 17, 2024, announcing that the Office of Management and Budget has approved, the information collections associated with the rules adopted in three rulemakings—a Report and Order, FCC 19-93, in IB Docket No. 06-160 (DBS Licensing Report and Order); a Report and Order, FCC 20-159, in IB Docket No. 18-314 (Satellite Services Report and Order); and a Report and Order, FCC 22-63, in IB Docket Nos. 20-330 and 22-273, (17 GHz Report and Order)—and with updates to the Form 312, including Schedules A, B, and S, and Form 312-R. The document contained two errors in the Dates section.

FOR FURTHER INFORMATION CONTACT: Scott Mackoul, Space Bureau, at (202) 418-7498 or Scott.Mackoul@fcc.gov.

SUPPLEMENTARY INFORMATION:

Correction

In the Federal Register of July 17, 2024, in FR Doc. 2024-15465, on page 58072, in the second column, correct the Dates caption to read:

The following are effective August 16, 2024:

(1) The amendments to 47 CFR 25.108(c)(5) and (c)(6), 25.114(a)(3), and 25.140(b)(6), published at 86 FR 49484 on September 3, 2021;

(2) The amendments to 47 CFR 25.114(d)(7), (15), and (18), 25.115(e), (g) and (k), 25.117(d)(2)(v), 25.140(a)(2) and (a)(3)(iii), (b)(3) through (7), and (d), 25.203 and 25.264, published at 87 FR 72388 on November 25, 2022;

(3) The corrections to 47 CFR 25.140 and 25.264; and

(4) The revisions to FCC Form 312 (including Schedules A, B, and C) and FCC Form 312R (used as required by part 25), published at 89 FR 32427 on April 26, 2024.

Federal Communications Commission.
Katura Jackson,
Federal Register Liaison Officer.

[FR Doc. 2024-17205 Filed 8-15-24; 8:45 am]

BILLING CODE 6712-01-P